DEPARTMENT OF COMMERCE

International Trade Administration

[C-570-013]

Carbon and Certain Alloy Steel Wire Rod From the People's Republic of China: Postponement of Preliminary Determination in the Countervailing Duty Investigation

AGENCY: Enforcement and Compliance, International Trade Administration, Department of Commerce.

FOR FURTHER INFORMATION CONTACT: Rebecca Trainor at (202) 482-4007 or Irene Darzenta Tzafolias at (202) 482-0922, AD/CVD Operations, Enforcement and Compliance, International Trade Administration, Department of Commerce, 14th Street and Constitution Avenue NW., Washington, DC 20230.

SUPPLEMENTARY INFORMATION:

Background

On February 20, 2014, the Department of Commerce (the Department) initiated the countervailing duty (CVD) investigation of carbon and certain alloy steel wire rod (steel wire rod) from the People's Republic of China (PRC).¹ Currently, the preliminary determination is due no later than April 28, 2014.²

¹ See Carbon and Certain Alloy Steel Wire Rod from the People's Republic of China: Initiation of Countervailing Duty Investigation, 79 FR 11085 (February 27, 2014) (Initiation Notice).

² The statutory deadline for the preliminary determination is Saturday, April 26, 2014. When the statutory deadline falls on a weekend, it is the Department's practice to issue the determination on the next business day, which in this case would be Monday, April 28, 2014. See Notice of Clarification: Application of “Next Business Day” Rule for Administrative Determination Deadlines Pursuant to the Tariff Act of 1930, as Amended, 70 FR 24533 (May 10, 2005).

Postponement of Due Date for the Preliminary Determination

Section 703(b)(1) of the Tariff Act of 1930, as amended (the Act), requires the Department to issue the preliminary determination in a CVD investigation within 65 days after the date on which the Department initiated the investigation. However, the Department may postpone making the preliminary determination until no later than 130 days after the date on which the administering authority initiated the investigation if, among other reasons, the petitioner makes a timely request for an extension pursuant to section 703(c)(1)(A) of the Act.

On March 31, 2014, the petitioner, Nucor Corporation (Nucor), timely requested that the Department postpone its preliminary CVD determination to 130 days from the initiation date.³

³ See 19 CFR 351.205(e) and Letter from Nucor, “Carbon and Certain Alloy Steel Wire Rod from the People's Republic of China: Request for Extension of Preliminary Determination” (March 31, 2014).

Pursuant to 703(c)(1)(A) of the Act and because the Department does not find any compelling reason to deny the request, we are extending the due date for the preliminary determination to no later than 130 days after the date on which this investigation was initiated, or June 30, 2014.

This notice is issued and published pursuant to section 703(c)(2) of the Act and 19 CFR 351.205(f)(1).

Dated: April 7, 2014.
Paul Piquado,
Assistant Secretary for Enforcement and Compliance.

[FR Doc. 2014-08188 Filed 4-10-14; 8:45 am]

BILLING CODE 3510-DS-P